DEPARTMENT OF DEFENSE

Department of the Navy

[Docket ID: USN-2023-HQ-0021]

Submission for OMB Review; Comment Request

AGENCY: Department of the Navy (DON), Department of Defense (DoD).

ACTION: 30-Day information collection notice.

SUMMARY: The DoD has submitted to the Office of Management and Budget (OMB) for clearance the following proposal for collection of information under the provisions of the Paperwork Reduction Act (PRA).

DATES: Consideration will be given to all comments received by April 10, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Navy Personal Award Recommendation Form; OMB Control Number 0703-NPAF.

Type of Request: Existing collection currently in use without an OMB Control Number.

Number of Respondents: 30.

Responses per Respondent: 1.

Annual Responses: 30.

Average Burden per Response: 10 minutes.

Annual Burden Hours: 5.

Needs and Uses: The purpose of DON military awards is to provide deserving members of the Naval Service recognition for qualifying acts of valor or non-combat heroism, exceptionally meritorious achievement or service, and arduous or otherwise special service. Nominations for Personal Military Decorations for Service Members (active duty, retired, and veterans), Foreign Military, and Midshipmen are submitted on the OPNAV 1650/3 form. Information is collected from Active-Duty Service Members and Veterans utilizing an electronic version of the OPNAV 1650/3, “Personal Award Recommendation.” However, for the purposes of this PRA information collection request, this section is only concerned with information collection from members of the public (Veterans). Veterans may be required to provide information to those in a supervisory position, hereafter referred to as originators, regarding the nominee, who must provide the requested information for the subsequent review, approval, and processing of the award. Originators complete the collection instrument to the best of their ability by populating the fillable fields with the required information but may need to contact the respondents to provide their complete personal information. Originators can then return the form via email or by uploading the form into the Enterprise Task Management System 2 to Chief of Naval Operations, DNS-13, Awards Branch. DNS-13 then reviews and process the award for approval.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 28, 2024.
Aaron T. Siegel,
Alternate OSD Federal Register Liaison Officer, Department of Defense.

[FR Doc. 2024-05058 Filed 3-8-24; 8:45 am]

BILLING CODE 3810-FR-P